DEPARTMENT OF COMMERCE

International Trade Administration

[A-507-502]

Certain In-Shell Raw Pistachios From Iran: Extension of Time Limit for Preliminary Results of Administrative Review

AGENCY: Import Administration, International Trade Administration, Department of Commerce.

ACTION: Notice of Extension of Time Limits.

SUMMARY: The Department of Commerce (the Department) is extending the time limit for the preliminary results of the 2002-2003 administrative review of the antidumping duty order on pistachios from Iran. This review covers one exporter of the subject merchandise to the United States and the period July 01, 2002 through June 30, 2003.

EFFECTIVE DATE: February 5, 2004.

FOR FURTHER INFORMATION CONTACT: Phyllis Hall at (202) 482-1398 or Donna Kinsella at (202) 482-0194, Antidumping and Countervailing Duty Enforcement Group III, Office Eight, Import Administration, International Trade Administration, U.S. Department of Commerce, 14th Street and Constitution Avenue, NW, Washington, DC 20230.

SUPPLEMENTARY INFORMATION: On August 22, 2003, in response to requests to conduct administrative reviews of various antidumping and countervailing duty orders and findings with July anniversary dates, we published a notice of initiation of this administrative review in the Federal Register. See Initiation of Antidumping and Countervailing Duty Administrative Reviews and Requests for Revocation in Part, 68 FR 50750. This review involves one exporter, Tehran Negah Nima Trading Company.

Pursuant to the time limits for administrative reviews set forth in section 751(a)(3)(A) of the Tariff Act of 1930, as amended (the Tariff Act), the current deadlines are April 1, 2004 for the preliminary results and July 30, 2004 for the final results. It is not practicable to complete this review within the normal statutory time limit due to the complexity of gathering information for constructed value (CV) and CV profit in Iran. Therefore, the Department is extending the time limit for completion of the preliminary results until July 30, 2004 in accordance with section 751(a)(3)(A) of the Tariff Act. The deadline for the final results of this review will continue to be 120 days after publication of the preliminary results.

This extension is in accordance with section 751(a)(3)(A) of the Tariff Act (19 U.S.C. 1675 (a)(3)(A) (2003)).

Dated: January 30, 2004.
Joseph A. Spetrini,
Deputy Assistant Secretary for Import Administration, Group III.

[FR Doc. 04-2525 Filed 2-4-04; 8:45 am]

BILLING CODE 3510-DS-S